EXPORT-IMPORT BANK

[Public Notice: 2025-6004]

Agency Information Collection Activities: Submission to the Office of Management and Budget for Review and Approval; Comment Request; EIB 92-30, Report of Premiums Payable for Financial Institutions Only

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995. This collection of information is necessary to determine eligibility of the export sales for insurance coverage.

DATES: Comments must be received on or before July 22, 2025 to be assured of consideration.

ADDRESSES: Comments may be submitted electronically on WWW.REGULATIONS.GOV (EIB 92-30) by email edward.coppola@exim.gov, or by mail to Edward Coppola, Export-Import Bank of the United States, 811 Vermont Ave. NW, Washington, DC.

FOR FURTHER INFORMATION CONTACT: To request additional information, please contact Edward Coppola, edward.coppola@exim.gov, 202-565-3717.

SUPPLEMENTARY INFORMATION:

The application tool can be reviewed at: https://img.exim.gov/s3fs-public/pub/pending/eib92-30.pdf.

Title and Form Number: EIB 92-30, Report of Premiums Payable for Financial Institutions Only.

OMB Number: 3048-0021.

Type of Review: Regular.

Need and Use: This collection of information is necessary to determine eligibility of the applicant for EXIM assistance. The Report of Premiums Payable for Financial Institutions Only is used to determine the eligibility of the shipment(s) and to calculate the premium due to EXIM for its support of the shipment(s) under its insurance program. Export-Import Bank customers will be able to submit this form on paper or electronically.

Affected Public: This form affects entities involved in the export of U.S. goods and services.

Annual Number of Respondents: 215.

Estimated Time per Respondent: 30 minutes.

Annual Burden Hours: 1,290 hours.

Frequency of Reporting of Use: Monthly.

Dated: May 20, 2025.
Andrew Smith,
Records Officer.

[FR Doc. 2025-09323 Filed 5-22-25; 8:45 am]

BILLING CODE 6690-01-P